DEPARTMENT OF ENERGY

Federal Energy Regulatory Commission

Combined Notice of Filings

Take notice that the Commission has received the following Part 284 Natural Gas Pipeline Rate filings:

Filings Instituting Proceedings

Docket Number: PR22-16-000.

Applicants: Bay Gas Storage Company, LLC.

Description: § 284.123(g) Rate Filing: Bay Gas Storage Housekeeping Changes to SOC to be effective 12/31/2021.

Filed Date: 12/30/21.

Accession Number: 20211230-5207.

Comments Due: 5 p.m. ET 1/20/2022.

284.123(g) Protests Due: 5 p.m. ET 2/28/2022.

Docket Number: PR22-17-000.

Applicants: Louisville Gas and Electric Company.

Description: Submits tariff filing per 284.123(b),(e)/: Operating Statement Rate Change to be effective 12/6/2021.

Filed Date: 1/3/22.

Accession Number: 20220103-5203.

Comments/Protests Due: 5 p.m. ET 1/24/2022.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-417-001.

Applicants: Tennessee Gas Pipeline Company, L.L.C.

Description: Tariff Amendment: TGP PCG Pooling Amendment to be effective 3/1/22.

Filed Date: 1/4/22.

Accession Number: 20220104-5001.

Comment Date: 5 p.m. ET 1/18/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 4, 2022.
Debbie-Anne A. Reese,
Deputy Secretary.

[FR Doc. 2022-01316 Filed 1-24-22; 8:45 am]

BILLING CODE 6717-01-P